DEPARTMENT OF AGRICULTURE

Forest Service

Black Hills National Forest, Northern Hills Ranger District; South Dakota; Steamboat Project

AGENCY: Forest Service, USDA.

ACTION: Notice of intent to prepare an environmental impact statement.

SUMMARY: The Forest Service will prepare an environmental impact statement on a proposal to implement multiple resource management actions within the Steamboat Project Area to implement the amended Black Hills National Forest Land and Resource Management Plan. The Steamboat Project Area covers approximately 21,833 acres of National Forest System land and approximately 2,713 acres of interspersed private land northwest of Rapid City, South Dakota. Proposed actions include a combination of vegetation and fuels treatments to provide structural diversity in big game winter range, reduce the risk of mountain pine beetle infestations and reduce the risk of high severity wildfire. The proposed action includes approximately 4,665 acres of commercial thinning, 970 acres of overstory removal, 1,408 acres of non-commercial thinning, 1,379 acres of shelterwood cuts, 255 acres of group selection, 1,186 acres of individual tree selection, 636 acres of hardwood enhancement, 200 acres of meadow enhancement, 1,031 acres of product-other-than-log thinning, 460 acres of understory thinning, and 190 acres of patch clearcutting. In addition, approximately 10,608 acres will be analyzed for prescribed burning. Approximately 18 miles of new road construction would be necessary to carry out the proposed vegetation management actions.

DATES: Comments concerning the scope of the analysis must be received by January 14, 2011. The draft environmental impact statement is expected May 2011 and the final environmental impact statement is expected September 2011.

ADDRESSES: Send written comments to Rhonda O'Byrne, District Ranger, Northern Hills Ranger District, 2014 N. Main Street, Spearfish, SD 57783. Comments may also be sent via e-mail to comments-rocky-mountain-black-hills-northern-hills@fs.fed.us with “Steamboat Project” as the subject or via facsimile to 605-642-4156.

FOR FURTHER INFORMATION CONTACT: Chris Stores, Assistant NEPA Planner, Northern Hills Ranger District, 2014 N. Main Street, Spearfish, SD 57783. Telephone number: 605-642-4622.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of and need for the action in the Steamboat project area is to create greater structural diversity in an area managed for big game winter range, to reduce the risk of mountain pine beetle infestation, and to reduce the risk of high severity wildfire. All actions are intended to move toward or achieve related Forest Plan Goals and Objectives, consistent with Forest Plan Standards and Guidelines.

Proposed Action

The Forest Service is proposing actions on National Forest System lands to move toward or achieve Forest Plan Goals and Objectives in the Steamboat project area northwest of Rapid City, South Dakota and adjacent to the towns of Nemo and Piedmont, South Dakota. Proposed actions include the following:

Create structural diversity in an area managed as big game winter range through meadow enhancement, hardwood enhancement, uneven-aged management, thinning of the forest's overstory and understory, and patch clear cuts to create open browsing areas.

Reduce acres at high or medium susceptibility to mountain pine beetle by thinning stands and changing stand structure. Commercial and non-commercial (including prescribed burning) methods may be used.

Reduce acres at high or very high risk to wildfire by thinning stands and reducing the amount of fuel available to fires. Commercial and non-commercial (including prescribed burning) methods may be used.

Road construction and maintenance activities would be necessary to access areas proposed for timber harvest. New roads would be closed following management activities.

Implementation of proposed activities would likely begin sometime during 2012 and continue for up to ten years following a project decision.

The Forest Service is the sole responsible agency for this project; no cooperators are participating in project planning.

Responsible Official

Rhonda O'Byrne, District Ranger, Northern Hills Ranger District, 2014 North Main Street, Spearfish, SD 57783.

Nature of Decision To Be Made

The decision to be made is whether or not to approve the proposed action or alternatives to the proposed action that may be developed. No Forest Plan amendments are proposed.

Scoping Process

This notice of intent initiates the scoping process, which guides the development of the environmental impact statement. The Northern Hills Ranger District will also provide a letter including a description of the proposed action and soliciting comments on the proposal to local land owners, interested tribal entitites, permittees that use the project area, and others who have expressed interest in projects similar to this one. A public meeting will be held at the Piedmont Fire Department in Piedmont, South Dakota during the comment period. Forest Service personnel will be on hand to answer questions about the project, and large-scale maps of the proposed action will be available for review.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 8, 2010.
Craig Bobzien,
Forest Supervisor, Black Hills National Forest.

[FR Doc. 2010-31443 Filed 12-14-10; 8:45 am]

BILLING CODE 3410-11-P